DEPARTMENT OF HEALTH AND HUMAN SERVICES

Centers for Disease Control and Prevention

Advisory Committee to the Director, Centers for Disease Control and Prevention: Meeting

In accordance with section 10(a)(2) of the Federal Advisory Committee Act (Pub. L. 92-463), the Centers for Disease Control and Prevention (CDC) announces the following advisory committee meeting.

Name: Advisory Committee to the Director, CDC.

Time and Date: 8:30 a.m.-4 p.m., July 31, 2003.

Place: The Sheraton Colony Square Hotel, The Crown Room, 188 14th Street, NE., Atlanta, Georgia 30361.

Status: Open to the public, limited only by the space available. The meeting room accommodates approximately 50 people.

Purpose: The committee advises the Director, CDC, on policy issues and broad strategies that will enable CDC, the Nation's prevention agency, to fulfill its mission of promoting health and quality of life by preventing and controlling disease, injury, and disability. The committee recommends ways to incorporate prevention activities more fully into health care. It provides guidance to help CDC work more effectively with its various constituents, in both the private and public sectors, to make prevention a practical reality.

Matters To Be Discussed: Agenda items will include discussion of the CDC Strategic Directions Initiative, and updates on CDC priorities, with discussions of program activities including updates on CDC scientific and programmatic activities. Agenda items are subject to change as priorities dictate.

Contact Person for More Information: Verla Neslund, Executive Secretary, Advisory Committee to the Director, CDC, 1600 Clifton Road, NE., M/S D-14, Atlanta, GA 30333. Telephone 404/639-7000.

The Director, Management Analysis and Services Office, has been delegated the authority to sign Federal Register notices pertaining to announcements of meetings and other committee management activities, for both CDC the Agency for Toxic Substances and Disease Registry.

Dated: July 2, 2003.
Alvin Hall,
Director, Management Analysis and Services Office, Centers for Disease Control and Prevention.

[FR Doc. 03-17301 Filed 7-8-03; 8:45 am]

BILLING CODE 4163-18-P